NATIONAL AERONAUTICS AND SPACE ADMINISTRATION

[Notice (02-029)]

First Flight Centennial Federal Advisory Board

AGENCY: National Aeronautics and Space Administration (NASA).

ACTION: Notice of meeting.

SUMMARY: In accordance with the Federal Advisory Committee Act,Public Law 92-463, as amended, the National Aeronautics and Space Administration announces the second meeting of the First Flight Centennial Federal Advisory Board. The Advisory Board will offer counsel to the U.S. Centennial of Flight Commission as the Commission develops support for activities involving the public in the celebration of the 100th anniversary of powered flight,December 17, 2003.

DATES: Thursday, March 21, 2002, 10 a.m. to 3 p.m.

ADDRESSES: National Aeronautics and Space Administration, 300 E Street, SW., Room 9H40 (PRC), Washington, DC 20546. Attendees must check in at the Security Desk to be cleared to the 9th floor conference room.

FOR FURTHER INFORMATION CONTACT: Ms. Beverly Farmarco, Code I,National Aeronautics and Space Administration, Washington, DC 20546, 202/358-1903.

SUPPLEMENTARY INFORMATION: The meeting will be open to the public up to the seating capacity of the room. The agenda for the meeting is as follows:

—Welcome

—Brief Remarks

—Wright Research, Aircraft Reproduction and Educational Development

—Status of Carter Ryley Thomas Activities

—PRIMEDIA Centennial Moments

—Task Groups

—Closing Remarks

—Adjourn

It is imperative that the meeting be held on this date to accommodate the scheduling priorities of the key participants. Visitors will be requested to sign a visitor's register.

Sylvia K. Kraemer,
Advisory Committee Management Officer, National Aeronautics and Space Administration.

[FR Doc. 02-4843 Filed 2-27-02; 8:45 am]

BILLING CODE 7510-01-P